INTERNATIONAL TRADE COMMISSION

[USITC SE-17-026]

Government in the Sunshine Act Meeting Notice

Agency Holding the Meeting: United States International Trade Commission.

Time and Date: June 16, 2017 at 11:00 a.m.

Place: Room 101, 500 E Street SW., Washington, DC 20436, Telephone: (202) 205-2000.

Status: Open to the public.

Matters To Be Considered

1. Agendas for future meetings: None.

2. Minutes.

3. Ratification List.

4. Vote in Inv. No. 731-TA-461 (Fourth Review) (Gray Portland Cement and Cement Clinker from Japan). The Commission is currently scheduled to complete and file its determination and views of the Commission by June 29, 2017.

5. Vote in Inv. Nos. 701-TA-564 and 731-TA-1338 and 1340 (Final) (Steel Concrete Reinforcing Bar from Japan and Turkey. The Commission is currently scheduled to complete and file its determinations and views of the Commission by June 30, 2017.

6. Outstanding action jackets: None.

In accordance with Commission policy, subject matter listed above, not disposed of at the scheduled meeting, may be carried over to the agenda of the following meeting. Earlier notification of this meeting was not possible.

By order of the Commission:
Issued: June 9, 2017.
Katherine M. Hiner,
Supervisory Attorney.

[FR Doc. 2017-12360 Filed 6-9-17; 4:15 pm]

BILLING CODE 7020-02-P